DEPARTMENT OF EDUCATION

[Docket No.: ED-2022-SCC-0102]

Agency Information Collection Activities; Submission to the Office of Management and Budget for Review and Approval; Comment Request; State Authorization

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before December 30, 2022.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Authorization.

OMB Control Number: 1845-0144.

Type of Review: Extension without change of a currently approved ICR.

Respondents/Affected Public: Private; State, Local, and Tribal Governments.

Total Estimated Number of Annual Responses: 5,428.

Total Estimated Number of Annual Burden Hours: 2,714.

Abstract: The Department of Education (the Department) requests extension of this information collection regarding Institutional Eligibility regulations in § 600.9—State Authorization. These regulations were a result of negotiated rulemaking in early 2019 and the requirements to these regulations have not changed.

The regulations in § 600.9(c)(2)(i) require an institution to determine in accordance with the institution's policies and procedures in which State a student is located while enrolled in a distance education or correspondence course, under either State jurisdiction or when the institution participates in a State authorization reciprocity agreement under which it is covered. The updates to the policies and procedures are not reported to the Department nor is there a specified format for such information.

The regulations in § 600.9(c)(2)(ii) require an institution, upon request from the Secretary, provide the written documentation of its determination of a student's location, including the basis for such determination. There is no specific form or format for the institutions to provide this information to the Department upon request. It is anticipated that an institution would provide the pertinent portions of the policy and procedures manual to respond to such a request from the Department, but it may provide the requested information in another method.

Dated: November 28, 2022.
Kun Mullan,
PRA Coordinator, Strategic Collections and Clearance, Governance and Strategy Division, Office of Chief Data Officer, Office of Planning, Evaluation and Policy Development.

[FR Doc. 2022-26183 Filed 11-29-22; 8:45 am]

BILLING CODE 4000-01-P